DEPARTMENT OF LABOR

Employment and Training Administration

[TA-W-54,768]

Crystal Springs Apparel, LLC, Crystal Springs, Mississippi; Notice of Revised Determination on Reconsideration

On July 27, 2004, the Department issued an Affirmative Determination Regarding Application on Reconsideration applicable to workers and former workers of the subject firm. The Notice was published in the Federal Register on August 10, 2004 (69 FR 48526).

On June 21, 2004, the Department initially denied TAA to workers of Crystal Springs Apparel, LLC, Crystal Springs, Mississippi because the workers performed administrative and warehousing activities and did not produce an article as defined by the Trade Act of 1974, as amended.

In the request for reconsideration, the company official stated that the subject worker are not service workers. Rather, the subject worker group produces knit shirts and woven shirts (men's and ladies') and are not separately identifiable by product line.

During the reconsideration investigation, the Department determined that the subject worker group are production workers and conducted an investigation to determine whether the workers are eligible to apply for trade adjustment assistance.

The reconsideration investigation revealed that subject company sales, production, imports and employment levels declined in 2003 from 2002 levels and declined during January-April 2004 from the corresponding time period in 2003.

The Department also surveyed the subject company's major declining customers regarding their purchases of knit and woven shirts (men's and ladies') for time periods 2002, 2003, January-April 2003 and January-April 2004. The survey revealed that major declining customers increased their imports of knit and woven shirts like and directly competitive with those produced at the subject company while decreasing their purchases from the subject company during the relevant period.

Conclusion

After careful review of the additional facts obtained on reconsideration, I conclude that increased imports of articles like or directly competitive with knit and woven shirts produced at the subject firm contributed importantly to the declines in sales or production and to the total or partial separation of workers of Crystal Springs Apparel, LLC, Crystal Springs, Mississippi. In accordance with the provisions of the Act, I make the following certification:

“All workers of Crystal Springs Apparel, LLC, Crystal Springs, Mississippi who became totally or partially separated from employment on or after April 21, 2003 through two years of this certification, are eligible to apply for adjustment assistance under Section 223 of the Trade Act of 1974.”

Signed in Washington, DC, this 10th day of September, 2004.
Elliott S. Kushner,
Certifying Officer, Division of Trade Adjustment Assistance.

[FR Doc. E4-2305 Filed 9-21-04; 8:45 am]

BILLING CODE 4510-30-P